SMALL BUSINESS ADMINISTRATION

[Disaster Declaration # 10519 and # 10520]

New York Disaster # NY-00022

AGENCY: U.S. Small Business Administration.

ACTION: Notice.

SUMMARY: This is a Notice of the Presidential declaration of a major disaster for the State of New York (FEMA-1650-DR), dated 7/03/2006.

Incident: Severe Storms and Flooding.

Incident Period: 6/26/2006 and continuing.

Effective Date: 7/3/2006.

Physical Loan Application Deadline Date: 9/1/2006.

Economic Injury (EIDL) Loan Application Deadline Date: 4/3/2007.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 7/3/2006, applications for disaster loans may be filed at the address listed above or other locally announced locations.

The following areas have been determined to be adversely affected by the disaster:

Primary Counties (Physical Damage and Economic Injury Loans):

Broome, Chenango, Delaware, Herkimer, Montgomery, Oneida, Orange, Otsego, Schoharie, Sullivan, Tioga, Ulster.

Contiguous Counties (Economic Injury Loans Only):

New York: Albany, Chemung, Columbia, Cortland, Dutchess, Fulton, Greene, Hamilton, Lewis, Madison, Oswego, Putnam, Rockland, Saratoga, Schenectady, St. Lawrence, Tompkins.

New Jersey: Passaic, Sussex.

Pennsylvania: Bradford, Pike, Susquehanna, Wayne.

The Interest Rates are:

| Percent
For Physical Damage:
Homeowners With Credit Available Elsewhere: | 5.875
Homeowners Without Credit Available Elsewhere: | 2.937
Businesses With Credit Available Elsewhere: | 7.763
Businesses and Non-Profit Organizations Without Credit Available Elsewhere: | 4.000
Other (Including Non-Profit Organizations) With Credit Available Elsewhere: | 5.000
For Economic Injury:
Businesses & Small Agricultural Cooperatives Without Credit Available Elsewhere: | 4.000

The number assigned to this disaster for physical damage is 10519 C and for economic injury is 10520 0.

(Catalog of Federal Domestic Assistance Numbers 59002 and 59008)

Herbert L. Mitchell,
Associate Administrator for Disaster Assistance.

[FR Doc. E6-11148 Filed 7-14-06; 8:45 am]

BILLING CODE 8025-01-P